DEPARTMENT OF HOMELAND SECURITY

Federal Emergency Management Agency

44 CFR Part 65

[Docket No. FEMA-P-7636]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Arkansas: Pulaski (Case No.: 03-06-2056P) | City of Little Rock | Mar. 18, 2004, Mar. 25, 2004, Arkansas Democrat-Gazette | The Honorable Jim Dailey, Mayor, City of Little Rock, 500 West Markham, Little Rock, AR 72201 | Jun. 24, 2004 | 050181
Arkansas: Benton (Case No.: 03-06-2052P) | City of Rogers | May 19, 2004, May 26, 2004, The Rogers Hometown News | The Honorable Steve Womack, Mayor, City of Rogers, 300 W. Poplar Street, Rogers, AR 72756 | May 3, 2004 | 050013
Illinois: Kane (Case No.: 03-05-3991P) | City of Aurora | Mar. 3, 2004, Mar. 10, 2004, The Beacon News | The Honorable David L. Stover, Mayor, City of Aurora, 44 East Downer Place, Aurora, IL 60507 | Feb. 3, 2004 | 170320
Illinois: St. Clair (Case No.: 04-05-2333P) | City of Belleville | May 5, 2004, May 12, 2004, The Belleville Journal | The Honorable Mark A. Kern, Mayor, City of Belleville, 101 South Illinois Street, Belleville, IL 62220 | Aug. 12, 2004 | 170618
Illinois: Cook (Case No.: 03-05-1460P) | Village of Burr Ridge | Apr. 7, 2004, Apr. 14, 2004, The Suburban Life | Ms. Jo Irmen, President, Village of Burr Ridge, Village Hall, 7660 County Line Road, Burr Ridge, IL 60521 | Jul. 14, 2004 | 170071
Illinois: Will (Case No.: 04-05-0084P) | Village of Frankfort | May 20, 2004, May 27, 2004, The Herald News | The Honorable Ray Rossi, Mayor, Village of Frankfort, 432 West Nebraska Street, Frankfort, IL 60423 | May 4, 2004 | 170701
Illinois: Kane & DeKalb (Case No.: 03-05-3994P) | Unincorporated Areas | Mar. 18, 2004, Mar. 25, 2004, The Elburn Herald | Mr. Michael W. McCoy, Chairman, Kane County Board, Kane County Government Center, 719 South Batavia Avenue, Bldg. A, Geneva, IL 60134 | Jun. 24, 2004 | 170896
Illinois: Kane & DeKalb (Case No.: 03-05-3994P) | Village of Maple Park | Mar. 18, 2004, Mar. 25, 2004, The Elburn Herald | Mr. Mark T. Delany, Village President, Village of Maple Park, P.O. Box 220, Maple Park, IL 60151 | Jun. 24, 2004 | 171018
Illinois: Cook (Case No.: 03-05-3383P) | Village of Orland Park | May 20, 2004, May 27, 2004, Orland Township Messenger | The Honorable Daniel McLaughlin, Mayor, Village of Orland Park, Village Hall, 14700 South Ravinia Avenue, Orland Park, IL 60462 | Aug. 26, 2006 | 170140
Illinois: Will (Case No.: 04-05-0088P) | Village of Plainfield | Apr. 7, 2004, Apr. 14, 2004, The Enterprise | The Honorable Richard Rock, Mayor, Village of Plainfield, 530 West Lockport Street, Suite 206, Plainfield, IL 60544 | Mar. 5, 2004 | 170771
Indiana: Hamilton (Case No.: 04-05-1640P) | City of Carmel | May 4, 2004, May 11, 2004, The Noblesville Ledger | The Honorable James Brainard, Mayor, City of Carmel, One Civic Square, Carmel, IN 46032 | Aug. 10, 2004 | 180081
Indiana: Hamilton (Case No.: 03-05-5182P) | Town of fishers | Apr. 2, 2004, Apr. 9, 2004, The Noblesville Ledger | Mr. Michael J. Booth, Manager, Town of Fishers, Fishers Town Hall, One Municipal Drive, Fishers, IN 46038 | Jul. 9, 2004 | 180423
Indianapolis: Marion (Case No.: 03-05-3997P) | City of Indianapolis | May 21, 2004, May 28, 2004, The Indianapolis Star | The Honorable Barthen Peterson, Mayor, City of Indianapolis, 200 East Washington Street, Suite 2501, City-County Building, Indianapolis, IN 46204 | Aug. 27, 2004 | 180159
Iowa: Story (Case No.: 03-07-892P) | City of Ames | Apr. 8, 2004, Apr. 15, 2004, The Tribune | The Honorable Ted Tedesco, Mayor, City of Ames, 515 Clark Avenue, Ames, IA 50010 | Jul. 15, 2004 | 190254
Indiana: Hendricks (Case No.: 03-05-3373P) | Unincorporated Areas | May 17, 2004, May 24, 2004, Hendricks County Flyer | Mr. Steven L. Ostermeier, President, Board of Commissiioners, Hendricks County Government Center, 355 South Washington, Suite 204, Danville, IN 46122 | Aug. 23, 2004 | 180415
Iowa: Polk (Case No.: 03-07-499P) | City of Ankeny | Apr. 20, 2004, Apr. 27, 2004, Ankeny Press Citizen | The Honorable Merle O. Johnson, Mayor, City of Ankeny, City Hall, 410 West First Street, Ankeny, IA 50021 | Jul. 27, 2004 | 190226
Iowa: Scott (Case No.: 03-07-888P) | City of Davenport | Mar. 24, 2004, Mar. 31, 2004, Quad City Times | The Honorable Charles W. Brooke, Mayor, City of Davenport, City Council Office, 226 West 4th Street, Davenport, IA 52801 | Jun. 30, 2004 | 190242
Iowa: Story (Case No.: 04-07-046P) | Unincorporated Areas | Mar. 25, 2004, Apr. 1, 2004, The Tribune | Ms. Jane Halliburton, Story County Board of Commissioners, 900 6th Street, Nevada, IA 50201 | Jul. 1, 2004 | 190907
Kansas: Johnson (Case No.: 04-07-026P) | City of Overland Park | May 13, 2004, May 20, 2004, The Sun Newspapers | The Honorable Ed Eilert, Mayor, City of Overland Park, City Hall, 8500 Santa Fe Frive, Overland Park, KS 66212 | Apr. 21, 2004 | 200174
Kansas: Sedgwick (Case No.: 03-07-898P) | City of Wichita | Mar. 10, 2004, Mar. 17, 2004, The Wichita Eagle | The Honorable Carlos Mayans, Mayor, City of Wichita, City Hall—1st Floor, 455 North Main Street, Wichita, KS 67202 | Feb. 12, 2004 | 200328
Kansas: Sedgwick (Case No.: 03-07-890P) | City of Wichita | Apr. 9, 2004, Apr. 16, 2004, The Wichita Eagle | The Honorable Carlos Mayans, Mayor, City of Wichita, City Hall—1st Floor, 455 North Main Street, Wichita, KS 67202 | Apr. 26, 2004 | 200328
Kansas: Sedgwick (Case No.: 03-07-1283P) | City of Wichita | Apr. 22, 2004, Apr. 29, 2004, The Wichita Eagle | The Honorable Carlos Mayans, Mayor, City of Wichita, City Hall—1st Floor, 455 North Main Street, Wichita, KS 67202 | Jul. 29, 2004 | 200328
Michigan: Wayne (Case No.: 03-05-3992P) | Township of Canton | May 20, 2004, May 27, 2004, Canton Eagle | Mr. Thomas Yack, Township Supervisor, Township of Canton, 1150 South Canton Center, Canton, MI 48188 | Aug. 26, 2004 | 260219
Michigan: Macomb (Case No.: 04-05-0884P) | Charter Township of Clinton | Mar. 23, 2004, Mar. 30, 2004, The Macomb Daily | Mr. Robert J. Cannon, Township Supervisor, 40700 Romeo Plank Road, Clinton Township, MI 48038 | Feb. 19, 2004 | 260121
Michigan: Ingham (Case No.: 03-05-5186P) | Charter Township of Meridian | May 23, 2004, May 30, 2004, The Town Courier. | Mr. Gerald Richards, Township Manager, Charter Township of Meridian, 5151 Marsh Road, Okemos, MI 48864-1198 | Aug. 29, 2004 | 260093
Minnesota: Washington (Case No.: 03-05-2576P) | City of Hugo | Mar. 31, 2004, Apr. 7, 2004, The White Bear Press | The Honorable Fran Miron, Mayor, City of Hugo, 14669 Fitzgerald Avenue North, Hugo, MN 55038 | Mar. 19, 2004 | 270504
Minnesota: Olmsted (Case No.: 03-05-3988P) | Unincorporated Areas | Mar. 23, 2004, Mar. 30, 2004, The Post-Bulletin | Mr. Richard Devin, County Administrator, Olmsted County, 151 4th Street SE., Rochester, MN 55904 | Feb. 23, 2004 | 270626
Minnesota: Olmsted (Case No.: 03-05-3988P) | City of Rochester | Mar. 23, 2004, Mar. 30, 2004, The Post-Bulletin | The Honorable Ardell Brede, Mayor, City of Rochester, City Hall, Room 281, 201 4th Street SE., Rochester, MN 55904 | Feb. 23, 2004 | 275246
Minnesota: Winona (Case No.: 04-05-0100P) | City of Winona | Mar. 24, 2004, Mar. 31, 2004, Winona Daily News | The Honorable Jerry Miller, Mayor, City of Winona, 207 Lafayette Street, Winona, MN 55987 | Feb. 5, 2004 | 275250
Missouri: Greene (Case No.: 04-07-038P) | City of Republic | May 12, 2004, May 19, 2004, The Republic Monitor | The Honorable Keith D. Miller, Mayor, City of Republic, 213 North Maine Street, Republic, MO 65738 | Apr. 19, 2004 | 290148
Nebraska: Sarpy (Case No.: 02-07-551P) | City of Bellevue | Mar. 24, 2004, Mar. 31, 2004, The Bellevue Leader | The Honorable Jerry Ryan, Mayor, City of Bellevue, 2310 West Missouri Avenue, Bellevue, NE 68005 | Jul. 1, 2004 | 310191
Nebraska: Sarpy (Case No.: 02-07-551P) | City of La Vista | Mar. 25, 2004, Apr. 1, 2004, The Papillion Times | The Honorable Harold Anderson, Mayor, City of La Vista, 8116 Park View Boulevard, La Vista, NE 68128 | Jul. 1, 2004 | 310192
Nebraska: Lancaster (Case No.: 04-07-030P) | City of Lincoln | May 28, 2004, June 4, 2004, Lincoln Journal Star | The Honorable Coleen J. Seng, Mayor, City of Lincoln, 555 South 10th Street, Lincoln, NE 68508 | May 5, 2004 | 315273
Nebraska: Sarpy (Case No.: 02-07-551P) | City of Papillion | Mar. 25, 2004, Apr. 1, 2004, The Papillion Times | The Honorable James E. Blinn, Mayor, City of Papillion, 122 East Third Street, Papillion, NE 68046 | Jul. 1, 2004 | 315275
New Mexico: Bernalillo (Case No.: 03-06-1927P) | City of Albuquerque | May 19, 2004, May 26, 2004, Albuquerque Journal | The Honorable Martin Chavez, Mayor, City of Albuquerque, P.O. Box 1293, Albuquerque, NM 87103 |  |
New Mexico: Bernalillo (Case No.: 03-06-832P) | City of Albuquerque | June 11, 2004, June 18, 2004, Albuquerque Journal | The Honorable Martin Chavez, Mayor, City of Albuquerque, P.O. Box 1293, Albuquerque, NM 87103 | Sept. 17, 2004 | 350002
New Mexico: Bernalillo (Case No.: 04-06-039P) | City of Albuqerque | Apr. 30, 2004, May 7, 2004, Albuquerque Journal | The Honorable Martin Chavez, Mayor, City of Albuquerque, P.O. Box 1293, Albuquerque, NM 87103 | Apr. 16, 2004 | 350002
New Mexico: Bernalillo (Case No.: 04-06-671P) | City of Albuquerque | Apr. 15, 2004, Apr. 22, 2004, Albuerque Journal | The Honorable Martin Chavez, Mayor, City of Albuquerque, P.O. Box 1293, Albuquerque, NM 87103 | Mar. 23, 2004 | 350002
New Mexico: Bernalillo (Case No.: 03-06-1003P) | City of Albuquerque | Mar. 25, 2004, Apr. 1, 2004, Albuquerque Journal | The Honorable Martin Chavez, Mayor, City of Albuquerque, P.O. Box 1293, Albuquerque, NM 87103 | Mar. 3, 2004 | 350002
New Mexico: Bernalillo (Case No.: 04-06-654P) | Unincorporated Areas | May 6, 2004, May 23, 2004, Albuqerque Journal | The Honorable Tom Rutherford, Chairman, Bernalillo County, One Civic Plaza NW., Albuquerque, NM 87102 | Apr. 20, 2004 | 350001
New Mexico: Bernalillo (Case No.: 04-06-039P) | Unincorporated Areas | Apr. 30, 2004, May 7, 2004, Albuquerque Journal | The Honorable Tom Rutherford, Chairman, Bernalillo County, One Civic Plaza NW., Albuquerque, NM 87102 | Apr. 16, 2004 | 350001
New Mexico: Bernalillo (Case No.: 04-06-659P) | Unincorporated Areas | Mar. 22, 2004, Mar. 29, 2004, Albuquerque Journal | The Honorable Tom Rutherford, Chairman, Bernalillo County, One Civil Plaza NW., Albuquerque, NM 87102 | Feb. 27, 2004 | 350001
New Mexico: Dona Ana (Case No.: 04-06-234P) | City of Las Cruces | Mar. 23, 2004, Mar. 30, 2004, Las Cruces Sun News | The Honorable William Mattiace, Mayor, City of Las Cruces, P.O. Box 20000, Las Cruces, NM 88004 | Feb. 18, 2004 | 355332
Ohio: Butler (Case No.: 03-05-3976P) | Unincorporated Areas | May 19, 2004, May 26, 2004, Middletown Journal | Mr. Michael A. Fox, President, County Commissioners, Butler County, Gov't. Services Center, 315 High Street, 6th Floor, Hamilton, OH 45011 | Aug. 25, 2004 | 390037
Ohio: Fairfield (Case No.: 03-05-5190P) | Unincorporated Areas | Apr. 7, 2004, Apr. 14, 2004, Lancaster Eagle-Gazette | Mr. Jon Myers, Fairfield County, Board of Commissioners, 210 East Main Street, Room 301, Lancaster, OH 43130 | Apr. 5, 2004 | 390158
Ohio: Butler & Warren (Case No.: 03-05-3976P) | Village of Monroe | May 19, 2004, May 26, 2004, Middletown Journal | The Honorable Robert Routson, Mayor, Village of Monroe, 233 South Main Street, P.O. Box 330, Monroe, OH 45050-0330 | Aug. 25, 2004 | 390042
Ohio: Warren (Case No.: 03-05-5187P) | Village of Springboro | May 13, 2004, May 20, 2004, The Springboro Star Press | The Honorable John Agenbroad, Mayor, Village of Springboro, 320 West Central Avenue, Springboro, OH 45066 | Aug. 19, 2004 | 390564
Ohio: Warren (Case No.: 03-05-5187P) | Unincorporated Areas | May 13, 2004, May 20, 2004, The Springboro Star-Press | Mr. C. Michael Kilburn, President, Warrant County, Board of Commissioiners, 320 West Central Avenue, Springboro, OH 45066 | Aug. 19, 2004 | 390757
Oklahoma: Oklahoma (Case No.: 04-06-035P) | City of Midwest City | Mar. 25, 2004, Apr. 1, 2004, The Midwest City Sun | The Honorable Eddie Reed, Mayor, Midwest City, P.O. Box 10570, Midwest City, OK 73140 | Mar. 2, 2004 | 400405
Oklahoma: Oklahoma (Case No.: 04-06-131P) | City of Oklahoma City | May 28, 2004, June 4, 2004, The Daily Oklahoman | The Honorable Mick Cornett, Mayor, City of Oklahoma City, 200 North Walker, Suite 302, Oklahoma City, OK 73102 | May 5, 2004 | 405378
Oklahoma: Tulsa (Case No.: 04-06-552P) | City of Tulsa | Mar. 18, 2004, Mar. 25, 2004, Tulsa World | The Honorable Bill LaFortune, Mayor, City of Tulsa, City Hall, 200 Civic Center, Tulsa, OK 74103 | Feb. 12, 2004 | 405381
Texas: Taylor and Jones (Case No.: 03-06-2669P) | City of Abilene | May 4, 2004, May 11, 2004, Abilene Reporter-News | The Honorable Grady Barr, Mayor, City of Abilene, P.O. Box 60, Abilene, TX 79604 | Aug. 10, 2004 | 485450
Texas: Parker (Case No.: 03-06-1950P) | City of Aledo | Mar. 3, 2004, Mar. 10, 2004, The Weatherford Democrat | The Honorable Sue Langley, Mayor, City of Aledo, 200 Old Annetta Road, Aledo, TX 76008 | June 9, 2004 | 481659
Texas: Dallas (Case No.: 03-06-2532P) | City of Carrollton | Apr. 7, 2004, Apr. 14, 2004, The Carrollton Leader | The Honorable Mark Stokes, Mayor, City of Carrollton, 1945 East Jackson Road, Carrollton, TX 75006 | Mar. 23, 2004 | 480167
Texas: Williamson (Case No.: 04-06-651P) | City of Cedar Park | May 19, 2004, May 26, 2004, The Hill Country News | The Honorable Bob Young, Mayor, City of Cedar Park, 600 North Bell Boulevard, Cedar Park, TX 78613 | Aug. 25, 2004 | 481282
Texas: Tarrant (Case No.: 04-06-383P) | City of Colleyville | Jan. 29, 2004, Feb. 5, 2004, The Star Telegram | The Honorable Joe Hocutt, Mayor, City of Colleyville, 5400 Bransford Road, Colleyville, TX 76034 | May 6, 2004 | 480590
Texas: Comal (Case No.: 03-06-1394P) | Unincorporated Areas | Apr. 28, 2004, May 5, 2004, Comal County Beacon | The Honorable Danny Scheel, Judge, Comal County, 199 Main Plaza, New Braunfels, TX 78130 | Aug. 4, 2004 | 485463
Texas: Denton (Case No.: 03-06-2331P) | Town of Flower Mound | Mar. 3, 2004, Mar. 10, 2004, Flower Mound Leader | The Honorable Lori DeLuca, Mayor, Town of Flower Mount, 2121 Cross Timbers Road, Flower Mound, TX 75028 | June 9, 2004 | 480777
Texas: Fort Bend (Case No.: 04-06-561P) | Fort Bend County M.U.D. No. 23 | May 19, 2004, May 26, 2004, Fort Bend Star | Mr. Mark Massey, President, Board of Directors, Fort Bend County MUD No. 23, 301 Jackson Street, Richmond, TX 77469 | Apr. 30, 2004 | 481590
Texas: Tarrant (Case No.: 03-06-2551P) | City of Fort Worth | Mar. 3, 2004, Mar. 10, 2004, The Star Telegram | The Honorable Michael Moncrief, Mayor, City of Fort Worth, 1000 Throckmorton Street, Fort Worth, TX 76102 | Mar. 12, 2004 | 480596
Texas: Tarrant (Case No.: 04-06-230P) | City of Fort Worth | Apr. 13, 2004, Apr. 20, 2004, The Star Telegram | The Honorable Michael Moncrief, Mayor, City of Fort Worth, 1000 Throckmorton Street, Fort Worth, TX 76102 | Jul. 20, 2004 | 480596
Texas: Tarrant (Case No.: 03-06-2049P) | City of Fort Worth | Apr. 22, 2004, Apr. 29, 2004, The Star Telegram | The Honorable Michael Moncrief, Mayor, City of Fort Worth, 1000 Throckmorton Street, Fort Worth, TX 76102 | Jul. 30, 2004 | 480596
Texas: Dallas (Case No.: 03-06-2537P) | City of Garland | June 3, 2004, June 10, 2004, Garland Morning News | The Honorable Bob Day, Mayor, City of Garland, 200 N. Fifth Street, Garland, TX 75040 | June 10, 2004 | 485471
Texas: Harris (Case No.: 04-06-132P) | Unincorporated Areas | Mar. 3, 2004, Mar. 10, 2004, The Houston Chronicle | The Honorable Robert A. Eckels, Judge, Harris County, 1001 Preston, Suite 911, Houston, TX 77002 | Feb. 9, 2004 | 480287
Texas: Hays (Case No.: 03-06-1940P) | Unincorporated Areas | Apr. 7, 2004, Apr. 14, 2004, San Marcos Daily Record | The Honorable Jim Powers, Judge, Hays County, 111 E. San Antonio Street, Suite 300, San Marcos, TX 78666 | Mar. 23, 2004 | 480321
Texas: Tarrant (Case No.: 04-06-657P) | City of Hurst | Apr. 7, 2004, Apr. 14, 2004, The Star Telegram | The Honorable William D. Souder, Mayor, City of Hurst, 1505 Precinct Line Road, Hurst, TX 76054 | Mar. 24, 2004 | 480601
Texas: Hays (Case No.: 03-06-1940P) | City of Kyle | Apr. 7, 2004, Apr. 14, 2004, The Kyle Eagle | The Honorable James L. Adkins, Mayor, City of Kyle, 300 West Center, Kyle, TX 78640 | Mar. 23, 2004 | 481108
Texas: Dallas (Case No.: 03-06-1750P) | City of Mesquite | May 13, 2004, May 20, 2004, The Mesquite News | The Honorable Mike Anderson, Mayor, City of Mesquite, P.O. Box 850137, Mesquite, TX 75185 | Apr. 29, 2004 | 485490
Texas: Dallas (Case No.: 03-06-2692P) | City of Mesquite | Mar. 4, 2004, Mar. 11, 2004, The Mesquite News | The Honorable Mike Anderson, Mayor, City of Mesquite, P.O. Box 850137, Mesquite, TX 75185 | June 10, 2004 | 485490
Texas: Parker (Case No.: 03-06-1950P) | Unincorporated Areas | Mar. 3, 2004, Mar. 10, 2004, The Weatherford Democrat | The Honorable Mark Riley, Judge, Parker County, 123 North Main Street, Weatherford, TX 76086 | June 9, 2004 | 480520
Texas: Tom Green (Case No.: 03-06-2684P) | City of San Angelo | Jan. 16, 2004, Jan. 23, 2004, San Angelo Standard Times | The Honorable J. W. Lown, Mayor, City of San Angelo, San Angelo City Hall, 72 West College Avenue, San Angelo, TX 76903 | Dec. 30, 2003 | 480623
Texas: Bexar (Case No.: 03-06-2544P) | City of San Antonio | May 24, 2004, May 31, 2004, San Antonio Express News | The Honorable Ed Garza, Mayor, City of San Antonio, P.O. Box 839966, San Antonio, TX 78283-3966 | Aug. 30, 2004 | 480045
Texas: Bexar (Case No.: 03-06-2679P) | City of San Antonio | May 24, 2004, May 31, 2004, San Antonio Express News | The Honorable Ed Garza, Mayor, City of San Antonio, P.O. Box 839966, San Antonio, TX 78283-3966 | Aug. 30, 2004 | 480045
Texas: Bexar (Case No.: 04-06-031P) | City of San Antonio | Mar. 24, 2004, Mar. 31, 2004, San Antonio Express News | The Honorable Ed Garza, Mayor, City of San Antonio, P.O. Box 839966, San Antonio, TX 78283-3966 | June 30, 2004 | 480045
Texas: Dallas (Case No.: 04-06-566P) | Town of Sunnyvale | Apr. 14, 2004, Apr. 21, 2004, Dallas Morning News | The Honorable Jim Phaup, Mayor, Town of Sunnyvale, 537 Long Creek Road, Sunnyvale, TX 75182 | Mar. 30, 2004 | 480188
Texas: Tarrant (Case No.: 03-06-2529P) | City of White Settlement | June 3, 2004, June 10, 2004, White Settlement Bomber News | The Honorable James O. Ouzts, Mayor, City of White Settlement, 214 Meadow Park Drive, White Settlement, TX 76108 | May 14, 2004 | 480617

(Catalog of Federal Domestic Assistance No. 83.100, “Flood Insurance.”)
Dated: July 28, 2004.
David I. Maurstad,
Acting Director, Mitigation Division, Emergency Preparedness and Response Directorate.

[FR Doc. 04-17962 Filed 8-5-04; 8:45 am]

BILLING CODE 9110-12-P